ENVIRONMENTAL PROTECTION AGENCY

[FRL-9954-01-R1]

Notice of Availability of a Draft Modification to the NPDES Aquaculture General Permit (AQUAGP) for Concentrated Aquatic Animal Production (CAAP) Facilities and Other Related Facilities in Vermont

AGENCY: Environmental Protection Agency (EPA).

ACTION: Notice of availability of Draft NPDES General Permit VTG130000.

SUMMARY: The Director of the Water Division, U.S. Environmental Protection Agency—Region 1 (EPA), is providing a Notice of Availability of a Draft Modification to the National Pollutant Discharge Elimination System (NPDES) Aquaculture General Permit (AQUAGP) for discharges from Concentrated Aquatic Animal Production (CAAP) facilities and other related facilities to certain waters of the State of Vermont (federal facilities only). This Draft Modification NPDES AQUAGP (“Draft General Permit Modification”) updates the formaldehyde monitoring requirement for 2 facilities in Vermont. The Draft General Permit Modification is available on EPA Region 1's website at https://www.epa.gov/npdes-permits/region-1-final-aquaculture-general-permit. The Statement of Basis for the Draft General Permit Modification sets forth principal facts and the significant factual, legal, methodological, and policy questions considered in the development of the Draft General Permit Modification and is also available at the above listed website.

DATES: Public comments must be received by August 26, 2022.

ADDRESSES: Written comments on the Draft General Permit should be sent via email to: Chien.Nathan@epa.gov.

FOR FURTHER INFORMATION CONTACT: Additional information concerning the Draft General Permit Modification, including the administrative record it is based upon, may be obtained between the hours of 9 a.m. and 5 p.m. Monday through Friday, excluding holidays from Nathan Chien, U.S. EPA Region 1, Water Division, 5 Post Office Square, Suite 100, Mail Code 06-1, Boston, MA 02109-3912; telephone: 617-918-1649; email: Chien.Nathan@epa.gov. A reasonable fee may be charged for copying requests.

SUPPLEMENTARY INFORMATION:

Public Comment Information: Interested persons may submit written comments on the Draft General Permit Modification to EPA Region 1 at the address listed above. In reaching a final decision on this Draft General Permit Modification, the Regional Administrator will respond to all significant comments and make responses available to the public on EPA's website. All comments must be postmarked or delivered by the close of the public comment period.

Authority: This action is being taken under the Clean Water Act, 33 U.S.C. 1251 et seq.

David Cash,
Regional Administrator, EPA Region 1.

[FR Doc. 2022-16069 Filed 7-26-22; 8:45 am]

BILLING CODE 6560-50-P